POSTAL REGULATORY COMMISSION

[Docket No. RM2023-5; Order No. 8703]

RIN 3211-AA34

Competitive Postal Products; Notice of Technical Conference

AGENCY: Postal Regulatory Commission.

ACTION: Notice.

SUMMARY: This document acknowledges that the Commission will be conducting an off-the-record technical conference to discuss how its streamlined mechanisms for reviewing requests to add negotiated service agreements to the Competitive product list function and to address other questions regarding the Commission's new rules for Competitive negotiated service agreements.

DATES: Technical Conference: May 7, 2025, at 10 a.m., Eastern Daylight Time (EDT), Virtual.

FOR FURTHER INFORMATION CONTACT: David A. Trissell, General Counsel, at 202-789-6820.

SUPPLEMENTARY INFORMATION:

I. Technical Conference

II. Participation in the Technical Conference

III. Technical Conference Procedures

IV. Ordering Paragraphs

I. Technical Conference

On August 9, 2024, the Commission issued an order adopting regulations regarding Competitive negotiated service agreements (NSAs).¹ These regulations were effective on September 19, 2024.² Among other things, these regulations were “designed to create a new, efficient mechanism for reviewing requests to add NSAs to the Competitive product list” and include two other options for streamlined review.³ The Commission wishes to encourage the broadest possible adoption of the streamlined mechanisms outlined in its regulations. Thus, in accordance with 39 CFR 3010.202(c), the Commission will host an off-the-record technical conference to discuss how such mechanisms function and to address other questions regarding the Commission's new rules for Competitive NSAs. The Commission will not provide legal advice or official interpretations of its rules at this conference. The technical conference will be held on May 7, 2025, at 10 a.m. EDT via Microsoft Teams.

¹ Final Order Amending Rules Regarding Competitive Negotiated Service Agreements, August 9, 2024 (Order No. 7353).

² See 89 FR 67292, August 20, 2024.

³ Notice of Proposed Rulemaking to Amend Rules Regarding Competitive Negotiated Service Agreements, January 30, 2024, at 28 (Order No. 6953); see Order No. 6953 at 40.

II. Participation in the Technical Conference

The technical conference is open to all interested persons. The Postal Service and the Public Representative, Christopher C. Mohr, must attend the technical conference.

To participate in this technical conference, it is not necessary to intervene formally in this docket. However, registration in advance is required, as follows. Each individual seeking to participate in the technical conference via Microsoft Teams using an individual device (e.g., a desktop computer, laptop, tablet, or smart phone) must register by sending an email to registration@prc.gov, with the subject line “RM2023-5 Conference Registration” by April 30, 2025. In order to facilitate orderly public participation, this email must provide the following information:

• your first and last name;

• your email address (to receive the Microsoft Teams link);

• your affiliation (if you are participating in your capacity as an employee, officer, member, or representative of an entity such as a corporation, association, or government agency) and job title;

• a list of any questions or topics regarding the Commission's new rules for Competitive NSAs that you request to be addressed at the technical conference; ⁴ and

⁴ Questions and topics are not limited to the streamlined filing mechanisms and may cover any issue related to the Commission's new rules for Competitive NSAs.

• For individuals affiliated with the Postal Service, expected role at the technical conference (e.g., technical support, research).

Each individual representing the Postal Service, as well as the Public Representative, is required to submit an email to registration@prc.gov as discussed above.

The registration@prc.gov email address is established solely for the exchange of information relating to the logistics of registering for, and participating in, the technical conference.⁵ No information provided by participants apart from the list identified above will be reviewed or considered. Only documents filed with the Commission's docket system will be considered by the Commission.

⁵ Please refer to the Commission's privacy policy, which is available at https://www.prc.gov/privacy.

Before the technical conference, the Commission will email each identified individual a Microsoft Teams link, an explanation of how to connect to the technical conference, and information regarding the agenda, schedule, and procedures to be followed (in addition to those identified in this Order).

III. Technical Conference Procedures

Because the technical conference concerns the Commission's regulations for Competitive NSAs, and not any specific Competitive NSA, the Commission does not expect that participants will have a need to discuss any non-public information during the technical conference. However, if any participant wishes to discuss non-public information during the technical conference, such participant must file a motion in accordance with 39 CFR 3010.160 no later than April 30, 2025, requesting that appropriate protective measures be adopted for the technical conference. Unless such a motion is granted, non-public information should not be raised at the technical conference.

The technical conference may be recorded, and such recording may be posted publicly.⁶ Participants in the technical conference, by participating, consent to the recording of the technical conference and public posting of such recording, as well as any livestream of the technical conference.

⁶ Such posting may occur on the Commission's YouTube Channel, which is available at https://www.youtube.com/channel/UCbHvK-S8CJFT5yNQe4MkTiQ.

Because technical conferences are “off the record,” information obtained during the technical conference or as a result of the technical conference is not part of the decisional record. See 39 CFR 3010.202(c). Similarly, because of the off-the-record character of the technical conference, any statements made by Commission staff during the technical conference are not statements of record of the Commission and do not necessarily represent the views of, and are not binding on, the Commission.

IV. Ordering Paragraphs

It is ordered:

1. A technical conference will be held on May 7, 2025, at 10:00 a.m. EDT as set forth in the body of this Order.

2. The Postal Service must participate in the technical conference.

3. Pursuant to 39 U.S.C. 505, Christopher C. Mohr shall continue to serve as an officer of the Commission (Public Representative) to represent the interests of the general public in this proceeding. The Public Representative must participate in the technical conference.

4. By April 30, 2025, the Public Representative, individuals representing the Postal Service, and any other interested persons must register for the technical conference as described in this Order.

5. The Secretary shall arrange for publication of this Order in the Federal Register.

By the Commission.
Erica A. Barker,
Secretary.

[FR Doc. 2025-03086 Filed 2-26-25; 8:45 am]

BILLING CODE 7710-FW-P